FEDERAL COMMUNICATIONS COMMISSION

47 CFR Parts 80 and 88

[GN Docket No. 25-133; FCC 25-77; FR ID 328173]

Delete, Delete, Delete; Withdrawal

AGENCY: Federal Communications Commission.

ACTION: Direct final rule; partial withdrawal.

SUMMARY: The Federal Communications Commission published a direct final rule in the Federal Register on December 12, 2025, concerning the elimination of certain outdated, obsolete, and unnecessary rules. The Commission identified rules for repeal that plainly no longer serve the public interest because they are duplicative, outdated, or unnecessary. However, this document identifies certain rule deletions from the direct final rule that either drew “significant adverse” public comments or that the Commission itself has determined require additional notice and comment procedures. This document provides notice that the repeal instructions for these specific rules and rule parts are withdrawn, and the rules are retained.

DATES: Effective February 10, 2026.

ADDRESSES: Federal Communications Commission, 45 L Street NE, Washington, DC 20554.

FOR FURTHER INFORMATION CONTACT: Thomas Reed, Wireless Telecommunications Bureau, Mobility Division, (202) 418-0531 or Thomas.Reed@fcc.gov.

SUPPLEMENTARY INFORMATION: The Commission is partially withdrawing provisions of the direct final that published in the Federal Register of December 12, 2025, and is effective February 10, 2026. In the direct final rule that published at 90 FR 57698. remove the following amendatory instructions:

1. On page 57707, in the second column, remove amendatory instructions 130 (§ 80.71) and 134 (§ 80.86).

2. On page 57707, in the third column, remove amendatory instructions 135 (§ 80.96), 143 (§ 80.159), and 144 (§ 80.175).

3. On page 57709, in the first column, remove amendatory instructions 150 (§ 80.314), 152 (§ 80.333), and 159 (§ 80.409).

4. On page 57709, in the second column, remove amendatory instruction 171 (§ 80.953).

5. On page 57709, in the third column, remove amendatory instruction 173 (§ 80.1114).

6. On page 57710, in the first column, remove amendatory instruction 187 (§ 88.111).

Dated: January 28, 2026.
Federal Communications Commission.
Marlene Dortch,
Secretary.

[FR Doc. 2026-01884 Filed 1-29-26; 8:45 am]

BILLING CODE 6712-01-P